DEPARTMENT OF DEFENSE

Department of the Army

Intent To Grant a Partially Exclusive License for a U.S. Army Owned Invention to Savit Corporation

AGENCY: Department of the Army, DoD.

ACTION: Notice.

SUMMARY: The Department of the Army announces that, unless there is an objection, after 15 days it intends to grant a partially exclusive license to Savit Corporation, a corporation having a place of business in Parsippany, New Jersey, on “Combat Ammunition Pack”, U.S. patent number 6,675,693. Any license granted shall comply with 35 U.S.C. 209 and 37 CFR part 404.

DATES: File written objections by October 9, 2007.

FOR FURTHER INFORMATION CONTACT: Mr. Timothy S. Ryan, Technology Transfer Program Manager, AMSRD-AAR-EMB, U.S. Army ARDEC, Picatinny Arsenal, NY 07806-5000, e-mail timothy.s.ryan@us.army.mil, (973) 724-7953.

SUPPLEMENTARY INFORMATION: Written objections must be filed within 15 days from publication date of this notice in the Federal Register. Any license granted shall comply with 35 U.S.C. 209 and 37 CFR part 404.

Brenda S. Bowen,
Army Federal Register Liaison Officer.

[FR Doc. 07-4693 Filed 9-20-07; 8:45 am]

BILLING CODE 3710-08-M